DEPARTMENT OF HOMELAND SECURITY

Federal Emergency Management Agency

44 CFR Part 67

[Docket ID FEMA-2019-0002; Internal Agency Docket No. FEMA-P-7669]

Proposed Flood Elevation Determinations for Yellow Medicine County, Minnesota (and Incorporated Areas)

AGENCY: Federal Emergency Management Agency, DHS.

ACTION: Proposed rule; withdrawal.

SUMMARY: The Federal Emergency Management Agency (FEMA) is withdrawing its proposed rule concerning proposed flood elevation determinations for Yellow Medicine County, Minnesota (and Incorporated Areas).

DATES: This withdrawal is effective on August 1, 2019.

ADDRESSES: You may submit comments, identified by Docket No. FEMA-P-7669, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov.

SUPPLEMENTARY INFORMATION: On February 4, 2005, FEMA published a proposed rule at 70 FR 5949-5953, proposing flood elevation determinations for Yellow Medicine County, Minnesota (and Incorporated Areas). FEMA is withdrawing the proposed rule because FEMA has or will be issuing a Revised Preliminary Flood Insurance Rate Map, and if necessary a Flood Insurance Study report, featuring updated flood hazard information. A Notice of Proposed Flood Hazard Determinations will be published in the Federal Register and in the affected community's local newspaper following issuance of the Revised Preliminary Flood Insurance Rate Map.

Authority: 42 U.S.C. 4104; 44 CFR 67.4.

Michael M. Grimm,
Assistant Administrator for Risk Management, Department of Homeland Security, Federal Emergency Management Agency.

[FR Doc. 2019-16410 Filed 7-31-19; 8:45 am]

BILLING CODE 9110-12-P